DEPARTMENT OF THE INTERIOR

National Park Service

Morristown National Historical Park, Morris & Somerset Counties, New Jersey; Notice of Intent To Prepare an Environmental Impact Statement and Notice of Public Meetings

In accordance with the National Environmental Policy Act of 1969 Pub. L. 91-109 section 102(c)), the National Park Service (NPS) is preparing an Environmental Impact Statement (EIS) for the Morristown National Historical Park (NHP), located in Morris and Somerset Counties, New Jersey. The purpose of the EIS is to assess the impacts of alternative management strategies that will be described in the general management plan for Morristown NHP. A range of alternatives will be formulated for natural and cultural resource protection, visitor use and interpretation, facilities development, and operations.

The NPS will hold two (2) public meetings during the week of April 10, 2000 which will provide an opportunity for public input into the scoping for the GMP/EIS. On Wednesday, April 12 at 4:00 PM, a meeting will be held at the Cross Estate, New Jersey Brigade Unit, Morristown NHP, 61C Old Jockey Hollow Road, Bernardsville, New Jersey. On Thursday, April 13 at 7:30 PM, a meeting will be held at the Morristown NHP Museum, Washington Headquarters Unit, 30 Washington Place, Morristown, New Jersey. The purpose of these meetings is to obtain both written and verbal comments concerning the future direction and development of Morristown NHP. Those persons who wish to comment verbally or in writing or who require further information should contact Michael D. Henderson, Superintendent, Morristown NHP, 30 Washington Place, Morristown, NJ, (973) 539-2016 ext. 205.

The draft GMP/EIS is expected to be completed and available for public review in mid 2001. After public and interagency review of the draft document comments will be considered, and a final EIS followed by a Record of Decision will be prepared.

Dated: March 16, 2000.
Michael D. Henderson,
Superintendent, Morristown National Historical Park.

[FR Doc. 00-7679 Filed 3-28-00; 8:45 am]

BILLING CODE 4310-70-M